DEPARTMENT OF EDUCATION

National Advisory Committee on Institutional Quality and Integrity, (National Advisory Committee); Meeting

AGENCY: National Advisory Committee on Institutional Quality and Integrity, Department of Education.

What Is the Purpose of This Notice?

The purpose of this notice is to announce the public meeting of the National Advisory Committee and invite third-party oral presentations before the Committee. This notice also presents the proposed agenda and informs the public of its opportunity to attend this meeting. The notice of this meeting is required under section 10(a)(2) of the Federal Advisory Committee Act.

When and Where Will the Meeting Take Place?

We will hold the public meeting on June 3, 2002 from 9:30 a.m. until 6:00 p.m., on June 4, 2002 from 8:30 a.m. until 6:00 p.m., and on June 5, 2002 from 8:30 a.m. until 3:00 p.m. at the Wyndham City Center Hotel, 1143 New Hampshire Avenue, NW, Washington, DC 20037. You may call the hotel at (202) 775-0800 or 1-800-526-7495 to inquire about rooms.

What Assistance Will Be Provided to Individuals with Disabilities?

The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Who Is the Contact Person for the Meeting?

Please contact Ms. Bonnie LeBold, the Executive Director of the National Advisory Committee on Institutional Quality and Integrity, if you have questions about the meeting. You may contact her at the U.S. Department of Education, room 7007, MS 7592, 1990 K St., NW, Washington, DC 20006, telephone: (202) 219-7009, fax: (202) 219-7008, e-mail: Bonnie.LeBold@ed.gov.

Individuals who use a telecommunications device for the deaf (TDD) may call the Federal Information Relay Service at 1-800-877-8339.

What Is the Authority for the National Advisory Committee?

The National Advisory Committee on Institutional Quality and Integrity is established under Section 114 of the Higher Education Act (HEA) as amended, 20 U.S.C. 1011c.

What Are the Functions of the National Advisory Committee?

The Committee advises the Secretary of Education about:

• The establishment and enforcement of the criteria for recognition of accrediting agencies or associations under subpart 2 of part H of Title IV, HEA.

• The recognition of specific accrediting agencies or associations.

• The preparation and publication of the list of nationally recognized accrediting agencies and associations.

• The eligibility and certification process for institutions of higher education under Title IV, HEA.

• The development of standards and criteria for specific categories of vocational training institutions and institutions of higher education for which there are no recognized accrediting agencies, associations, or State agencies in order to establish the interim eligibility of those institutions to participate in Federally funded programs.

• The relationship between: (1) accreditation of institutions of higher education and the certification and eligibility of such institutions, and (2) State licensing responsibilities with respect to such institutions.

• Any other advisory functions relating to accreditation and institutional eligibility that the Secretary may prescribe.

What Items Will be on the Agenda for Discussion at the Meeting?

Agenda topics will include the review of agencies that have submitted petitions for initial recognition or renewal of recognition, requested an expansion of scope, or submitted interim reports.

What Agencies Will the Advisory Committee Review at the Meeting?

The Advisory Committee will review the following agencies during its June 3-5, 2002 meeting.

Nationally Recognized Accrediting Agencies

Petition for Initial Recognition

1. Teacher Education Accreditation Council (Requested scope of recognition: the accreditation of professional education programs in institutions offering baccalaureate and graduate degrees for the preparation of teachers K-12)

Petitions for Renewal of Recognition

1. American Association of Nurse Anesthetists, Council on Accreditation of Nurse Anesthesia Educational Programs (Current scope of recognition: the accreditation of institutions and programs of nurse anesthesia at the certificate, master's, or doctoral degree levels)

2. Association of Advanced Rabbinical and Talmudic Schools, Accreditation Commission (Current scope of recognition: the accreditation and preaccreditation (“Correspondent” and “Candidate”) of advanced rabbinical and Talmudic schools)

3. American Board of Funeral Service Education, Committee on Accreditation (Current scope of recognition: the accreditation of institutions and programs awarding diplomas, associate degrees and bachelor's degrees in funeral service or mortuary science)

4. Accrediting Commission on Education for Health Services Administration (Current scope of recognition: the accreditation throughout the United States of graduate programs in health services administration)

5. The American Dietetic Association, Commission on Accreditation for Dietetics Education (Current scope of recognition: the accreditation of Coordinated Programs in Dietetics at both the undergraduate and graduate level, postbaccalaureate Dietetic Internships, and Dietetic Technician Programs at the associate degree level) (Requested expansion of scope of recognition: the current scope of recognition to include the accreditation of Didactic Programs in Dietetics at both the undergraduate and graduate level, and its accreditation of programs offered via distance education.)

6. Council on Education for Public Health (Current scope of recognition: the accreditation and preaccreditation (“Preaccreditation Status”) of graduate schools of public health, graduate programs in community health education outside schools of public health, and graduate programs in community health/preventive medicine outside schools of public health)

7. Liaison Committee on Medical Education (Current scope of recognition: the accreditation of medical education programs leading to the M.D. degree)

8. Middle States Association of Colleges and Schools, Commission on Higher Education (Current scope of recognition: the accreditation and preaccreditation (“Candidate Status”) of institutions in Delaware, the District of Columbia, Maryland, New Jersey, New York, Pennsylvania, Puerto Rico, the U.S. Virgin Islands, the Republic of Panama and a limited number of freestanding American-style institutions abroad that are chartered or licensed by an appropriate agency within the Middle States region)

9. National Association of Nurse Practitioners in Women's Health, Council on Accreditation (Current scope of recognition: the accreditation of women's health nurse practitioner programs located within the United States and its territories)

10. New York Board of Regents (Current scope of recognition: The accreditation (registration) of collegiate degree-granting programs or curricula offered by institutions of higher education in the State of New York and of credit-bearing certificate and diploma programs offered by degree-granting institutions of higher education in the State of New York)

Interim Reports (An interim report is a follow-up report on an accrediting agency's compliance with specific criteria for recognition that was requested by the Secretary when the Secretary granted renewed recognition to the agency.)

1. Accreditation Commission for Acupuncture and Oriental Medicine

2. American Association for Marriage and Family Therapy, Commission on Accreditation for Marriage and Family Therapy Education

3. American Bar Association, Council of the Section of Legal Education and Admissions to the Bar

4. American Osteopathic Association, Bureau of Professional Education

5. American Podiatric Medical Association, Council on Podiatric Medical Education

6. Council on Occupational Education

7. Midwifery Education Accreditation Council

8. National Council for Accreditation of Teacher Education

9. North Central Association of Colleges and Schools, Executive Board of the Commission on Schools

State Agencies Recognized for the Approval of Public Postsecondary Vocational Education

Petition for Renewal of Recognition

1. New York State Board of Regents (Public Postsecondary Vocational Education)

Interim Report

1. Oklahoma State Regents for Higher Education

State Agencies Recognized for the Approval of Nurse Education

Petition for Initial Recognition

1. North Dakota Board of Nursing

Petition for Renewal of Recognition

1. New York State Board of Regents (Nursing Education)

Who Can Make Third-Party Oral Presentations at this Meeting?

We invite you to make a third-party oral presentation before the National Advisory Committee concerning the recognition of any agency published in this notice.

How Do I Request to Make an Oral Presentation?

You must submit a written request to make an oral presentation concerning an agency listed in this notice to the contact person so that the request is received no later than May 10, 2002. Your request (no more than 6 pages maximum) must include:

• The names, addresses, phone numbers, and fax numbers of all persons seeking an appearance,

• The organization they represent, and

• A brief summary of the principal points to be made during the oral presentation.

If you wish, you may attach documents illustrating the main points of your oral testimony. Please keep in mind, however, that any attachments are included in the 6-page limit. Please do not send materials directly to Committee members. Only materials submitted by the deadline to the contact person listed in this notice and in accordance with these instructions become part of the official record and are considered by the Committee in its deliberations. Documents received after the May 10, 2002 deadline will not be distributed to the Advisory Committee for their consideration. Individuals making oral presentations may not distribute written materials at the meeting.

If I Cannot Attend the Meeting, Can I Submit Written Comments Regarding an Accrediting Agency in Lieu of Making an Oral Presentation?

This notice requests third-party oral testimony, not written comment. A request for written comments on agencies that are being reviewed during this meeting was published in the Federal Register on February 1, 2002. The Advisory Committee will receive and consider only written comments submitted by the deadline specified in that Federal Register notice.

How Do I Request to Present Comments Regarding General Issues Rather Than Specific Accrediting Agencies?

At the conclusion of the meeting, the Committee, at its discretion, may invite attendees to address the Committee briefly on issues pertaining to the functions of the Committee, which are listed earlier in this notice. If you are interested in making such comments, you should inform Ms. LeBold before or during the meeting.

How May I Obtain Access to the Records of the Meeting?

We will record the meeting and make a transcript available for public inspection at the U.S. Department of Education, 1990 K St., NW., Washington, DC 20006 between the hours of 9 a.m. and 4:30 p.m., Monday through Friday, except Federal holidays. It is preferred that an appointment be made in advance of such inspection.

How May I Obtain Electronic Access to This Document?

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Authority: 5 U.S.C. Appendix 2.

Dated: March 14, 2002.
Kenneth W. Tolo,
Acting Deputy Assistant Secretary for Policy, Planning, and Innovation, Office of Postsecondary Education.

[FR Doc. 02-6841 Filed 3-20-02; 8:45 am]

BILLING CODE 4000-01-U